DEPARTMENT OF STATE

[Public Notice: 11549]

Update on Report to Congress Pursuant to Section 353(d)(1)(A) of the United States-Northern Triangle Enhanced Engagement Act

ACTION: Notice of report.

SUMMARY: This document provides an update to the State Department's report to Congress regarding foreign persons who have knowingly engaged in actions that undermine democratic processes or institutions, significant corruption, or obstruction of such corruption in El Salvador, Guatemala, and Honduras pursuant to Section 353(b) of the Department of State, Foreign Operations, and Related Programs Appropriations Act, 2021.

SUPPLEMENTARY INFORMATION: Update to Report to Congress on Foreign Persons who have Knowingly Engaged in Actions that Undermine Democratic Processes or Institutions, Significant Corruption, or Obstruction of Such Corruption in El Salvador, Guatemala, and Honduras Section 353(b) of the Department of State, Foreign Operations, and Related Programs Appropriations Act, 2021 (Div. FF, Pub. L. 116-260)

Consistent with Section 353(b) of the United States-Northern Triangle Enhanced Engagement Act (Div. FF, Pub. L. 116-260) (the Act), this report update is being submitted to the House Foreign Affairs Committee, Senate Foreign Relations Committee, House Committee on the Judiciary, and the Senate Committee on the Judiciary.

Section 353(b) requires the submission of a report that identifies the following persons in El Salvador, Guatemala, and Honduras: (1) Foreign persons determined to have knowingly engaged in actions that undermine democratic processes or institutions; (2) foreign persons determined to have knowingly engaged in significant corruption; and (3) foreign persons determined to have knowingly engaged in obstruction of investigations into such acts of corruption, including the following: Corruption related to government contracts; bribery and extortion; the facilitation or transfer of the proceeds of corruption, including through money laundering; and acts of violence, harassment, or intimidation directed at governmental and nongovernmental corruption investigators.

Under Section 353, foreign persons identified under the Act are generally ineligible for visas and admission to the United States. Section 353 further requires that foreign persons identified under the Act shall have their visas revoked immediately and any other valid visa or entry documentation cancelled. Consistent with Section 353(g), this report update will be published in the Federal Register.

This report update includes individuals for whom the Department is aware of credible information or allegations of the conduct at issue, from media reporting and other sources. The Department will continue to review the individuals listed in the report and consider all available tools to deter and disrupt corrupt, undemocratic activity in El Salvador, Guatemala, and Honduras. The Department also continues to actively review additional credible information and allegations concerning corruption and to utilize all applicable authorities, as appropriate, to ensure corrupt officials are denied safe haven in the United States.

El Salvador

Elsy Dueñas De Aviles, Oscar Alberto López Jerez, Hector Nahun Martinez Garcia, Jose Angel Perez Chacon, and Luis Javier Suárez Magaña, current Magistrates of the Constitutional Chamber of the Supreme Court, undermined democratic processes or institutions by accepting direct appointments to the Chamber by the Legislative Assembly, in an unusual process in apparent contravention of the processes set out at Article 186 of the Constitution, which requires the selection of such Magistrates from a list of candidates drafted by the National Council of the Judiciary. The previous five Magistrates were abruptly removed without legitimate cause following the May 1 seating of the newly elected Legislative Assembly. After being installed, the new Magistrates declared their installation by the Legislative Assembly to have been constitutional. The Magistrates subsequently also undermined democratic processes or institutions by approving a controversial interpretation of the Constitution authorizing re-election of the President despite an express prohibition in the Constitution forbidding consecutive terms of the Presidency.

Guatemala

Angel Arnoldo Pineda Avila, current Secretary General of Guatemala's Public Ministry (MP), obstructed investigations into acts of corruption by interfering in anti-corruption probes. The MP has opened a probe into allegations that Pineda interfered in an anti-corruption investigation. Pineda is alleged to have tipped off investigative targets about cases being built against them. In one instance, Pineda reportedly leaked confidential information to the director of Guatemala's Victim Institute about an ongoing investigation into more than 100 falsified personnel contracts at the institution.

Maria Consuelo Porras Argueta De Porres, current Attorney General of Guatemala, obstructed investigations into acts of corruption by interfering with criminal investigations in order to protect political allies and gain personal political favor. Porras' pattern of obstruction included ordering prosecutors in the MP to ignore cases based on political considerations and actively undermining investigations into political allies carried out by the Special Prosecutor Against Impunity, including by improperly firing its lead prosecutor, Juan Francisco Sandoval, and transferring and firing prosecutors who investigate the current administration or the MP itself.

Dated: September 13, 2021.
Wendy R. Sherman,
Deputy Secretary of State.

[FR Doc. 2021-20821 Filed 9-24-21; 8:45 am]

BILLING CODE 4710-29-P